DEPARTMENT OF COMMERCE

National Oceanic and Atmospheric Administration

Membership of the National Oceanic and Atmospheric Administration Performance Review Board

AGENCY: National Oceanic and Atmospheric Administration (NOAA), Department of Commerce.

ACTION: Notice of membership of the NOAA Performance Review Board.

SUMMARY: In accordance with 5 U.S.C. 4314(c)(4), NOAA announces the appointment of three new members to serve with the current membership on the NOAA Performance Review Board (PRB). The NOAA PRB is responsible for reviewing performance appraisals and ratings of Senior Executive Service and Senior Professional members and making written recommendations to the appointing authority on retention and compensation matters, including performance-based pay adjustments, awarding of bonuses and reviewing recommendations for potential Presidential Rank Award nominees. The appointment of members to the NOAA PRB will be for a period of 12 months.

DATES: Effective Date: The effective date of service of the three new appointees to the NOAA Performance Review Board is September 30, 2009.

FOR FURTHER INFORMATION CONTACT: Sabrina D. Lewis, Executive Resources Program Manager, Workforce Management Office, NOAA, 1305 East-West Highway, Silver Spring, Maryland 20910, (301) 713-6306.

SUPPLEMENTARY INFORMATION: The names and position titles of the members of the NOAA PRB are set forth below:

John E. Oliver, Jr. | Deputy Assistant Administrator for Operations, National Marine Fisheries Service.
Maureen E. Wylie | Chief Financial Officer.
Vickie L. Nadolski | Deputy Assistant Administrator, National Weather Service.
Charles S. Baker | Deputy Assistant Administrator, National Environmental Satellite, Data and Information Service.
Alexander E. MacDonald | Deputy Assistant Administrator for Laboratories and Cooperative Institutes and Director, ESRL, Office of Oceanic and Atmospheric Research.
John S. Gray III | Director, Officer of Legislative Affairs.
Paul N. Doremus | Director, Strategic Planning Office of Program Planning and Integration.
David M. Kennedy | Deputy Assistant Administrator for Ocean Services and Coastal Zone Management, National Ocean Service.
Tyra D. Smith | Director, Human Resources Bureau of the Census, Department of Commerce.
Justin H. Kenney | Director, Office of Communications, Office of the Under Secretary.
Craig N. McLean | Deputy Assistant Administrator for Programs and Administration, Office of Oceanic and Atmospheric Research.
Rebecca J. Lent | Director, International Affairs, National Marine Fisheries Service.
Deidre R. Jones | Director, Systems Engineering Center, National Weather Service.
Joseph F. Klimavicz | Chief Information Officer and Director for High Performance Computing and Communications.
Louisa Koch | Director, Office of Education.
Louis W. Uccellini | Director, National Centers for Environmental Prediction, National Weather Service.
Samuel D. Rauch III | Deputy Assistant Administrator for Regulatory Programs, National Marine Fisheries Service.
Margaret F. Spring | Chief of Staff for NOAA.
Kathleen A. Kelly | Director, Office of Satellite Operations, National Environmental Satellite, Data and Information Service.
Daniel J. Basta | Director, Office of National Marine Sanctuaries, National Ocean Service.
William Corso | Technical Director, National Ocean Service.

Dated: September 15, 2009.
Jane Lubchenco,
Under Secretary of Commerce for Oceans and Atmosphere.

2009 NOAA Performance Review Board Members
Member | Title | Line office | Term expires
2009 PRB Members
John E. Oliver, Jr., Chair | Deputy Assistant Administrator for Operations | National Marine Fisheries Service | 09/29/10
Maureen E. Wylie, Co-Chair | Chief Financial Officer | Office of the Chief Financial Officer | 09/29/10
Vickie L. Nadolski | Deputy Assistant Administrator for Weather Services | National Weather Service | 09/29/10
Charles S. Baker | Deputy Assistant Administrator, NESDIS | National Environmental Satellite, Data and Information Service | 09/29/10
Paul N. Doremus | Director, Office of Strategic Planning | Office of Program Planning and Integration | 09/29/10
Alexander E. MacDonald | Deputy Assistant Administrator for Laboratories and Cooperative Institutes and Director, ESRL | Oceanic and Atmospheric Research | 09/29/10
John S. Gray III | Director, Legislative Affairs | Office of Legislative Affairs | 09/29/10
David M. Kennedy | Deputy Assistant Administrator for Ocean Services and Coastal Zone Management | National Ocean Service | 09/29/10
Tyra D. Smith | Director, Human Resources | Bureau of the Census, DOC | 09/29/10
2009 Alternate Members
Rebecca J. Lent | Director, International Affairs | National Marine Fisheries Service | 09/29/10
Craig N. McLean | Deputy Assistant Administrator for Programs and Administration | Office of Oceanic and Atmospheric Research | 09/29/10
Louisa Koch | Director, Office of Education | Office of Education | 09/29/10
Deidre R. Jones | Director, Systems Engineering Center | National Weather Service | 09/29/10
Louis W. Uccellini | Director, National Centers for Environmental Prediction | National Weather Service | 09/29/10
Samuel D. Rauch III | Deputy Assistant Administrator for Regulatory Programs | National Marine Fisheries Service | 09/29/10
Margaret F. Spring | Chief of Staff for NOAA | Office of the Under Secretary | 09/29/10
Joseph F. Klimavicz | Chief Information Officer | Office of the Deputy Under Secretary | 09/29/10
Kathleen A. Kelly | Director, Office of Satellite Operations | National Environmental Satellite, Data and Information Service | 09/29/10
Daniel J. Basta | Director, Office of National Marine Sanctuaries | National Ocean Service | 09/29/10
Justin H. Kenney | Director, Office of Communications | Office of the Under Secretary | 09/29/10
William Corso | Technical Director | National Ocean Service | 09/29/09

[FR Doc. E9-22598 Filed 9-18-09; 8:45 am]

BILLING CODE 3510-12-P